DEPARTMENT OF JUSTICE

Drug Enforcement Administration

21 CFR Part 1301

[Docket No. DEA-322]

RIN 1117-AB20

Implementation of the Ryan Haight Online Pharmacy Consumer Protection Act of 2008; Correction

AGENCY: Drug Enforcement Administration, Department of Justice.

ACTION: Final rule; correction.

SUMMARY: The Drug Enforcement Administration is correcting a final rule that published in the Federal Register on September 30, 2020. The final rule implemented the Ryan Haight Online Pharmacy Consumer Protection Act of 2008. This change will provide clarity.

DATES: Effective October 30, 2020.

FOR FURTHER INFORMATION CONTACT: Scott A. Brinks, Diversion Control Division, Drug Enforcement Administration; Mailing Address: 8701 Morrissette Drive, Springfield, Virginia 22152; Telephone: (571) 362-3261.

SUPPLEMENTARY INFORMATION:

Legal Authority

The Controlled Substances Act (CSA) grants the Attorney General authority to promulgate rules and regulations relating to the registration and control of the manufacture, distribution, and dispensing of controlled substances; as well as the maintenance and submission of records and reports of registrants; and that are necessary and appropriate for the efficient execution of his statutory functions. 21 U.S.C. 821, 827, 871(b). The Attorney General is further authorized by the CSA to promulgate rules and regulations relating to the registration and control of importers and exporters of controlled substances. 21 U.S.C. 958(f). The Attorney General has delegated this authority to the Administrator of the DEA. 28 CFR 0.100(b).

Technical Correction

In FR Rule Doc. 2020-21310, beginning on page 61594 in the Federal Register of Wednesday, September 30, 2020, the following correction is made:

§ 1301.13 [Corrected]

1. On page 61601, in the “Application fee ($)” column of the paragraph (e)(1)(iv) table, “731” is corrected to read “888”.

Timothy J. Shea,
Acting Administrator.

[FR Doc. 2020-22761 Filed 10-21-20; 8:45 am]

BILLING CODE 4410-09-P